DEPARTMENT OF HEALTH AND HUMAN SERVICES

National Institute of Environmental Health Sciences

Announcement of Meeting To Discuss Soy Estrogens and Development

AGENCY: National Institute of Environmental Health Sciences (NIEHS), National Institutes of Health, Department of Health and Human Services.

ACTION: Notice.

SUMMARY: Beginning on Thursday, April 12, 2007 (9 a.m. to 4:30 p.m.) and continuing through Friday, April 13, 2007 (9 a.m.-12:30 p.m.), Dr. Walter Rogan of the National Institute of Environmental Health Sciences will sponsor a meeting with experts in pediatric endocrinology, psychology, epidemiology, and nutrition to discuss soy estrogens and infant development. The meeting will be held at the National Institute of Environmental Health Sciences, Research Triangle Park, North Carolina.

During 2004-05, NIEHS conducted pilot studies to test innovative ethods for studying estrogenic isoflavones in soy formula and their potential ability to act as pharmacologic estrogens in infants by prolonging anatomical and biochemical markers in infants. The results of these studies are becoming available. While the investigators are at the early stage of planning what, if any, steps to take next, they have convened experts in pediatric endocrinology, psychology, epidemiology, nutrition, etc., to offer their individual opinions.

This meeting is open to the public, but is limited by space. Registration is free but required. Please also note that the following security procedures must be followed when visiting the NIEHS:

• The purpose of a visit must be official (registered);

• The visit should be expected and approved by a “host” employee;

• Visitors must show an ID (Driver's license plus one of the following: company ID; government ID or university ID) at the entrance;

• Vehicles may be searched.

Those interested in attending the meeting, or who have questions should contact: Kerry James by e-mail at james4@niehs.nih.gov or by telephone at 919-287-4339; or Janet Archer by e-mail at archer2@niehs.nih.gov or by phone at 919-287-4334.

Dated: March 26, 2007.
Walter J Rogan,
Senior Investigator, Epidemiology Branch, National Institutes of Environmental Health Sciences, National Institutes of Health.

[FR Doc. E7-6065 Filed 3-30-07; 8:45 am]

BILLING CODE 4140-01-P